DEPARTMENT OF JUSTICE

Executive Office of Immigration for Review; Agency Information Collection Activities: Proposed Collection; Comments Requested

ACTION: 30-day notice of information collection under review: revision of a currently approved collection, 33/BIA Board of Immigration Appeals, 33/IC Immigration Court.

The Department of Justice (DOJ), Executive Office for Immigration Review (EOIR) has submitted the following information collection request to the Office of Management and Budget (OMB) for review and approval in accordance with the Paperwork Reduction Act of 1995. The proposed information collection is published to obtain comments from the public and affected agencies. This proposed information collection was previously published in the Federal Register Volume 67, Number 71, page 18036 on April 12, 2002, allowing for a 60 day comment period.

The purpose of this notice is to allow for an additional 30 days for public comment until August 7, 2002. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted OMB via facsimile to (202)-395-7285.

Request written comments and suggestions from the public and affected agencies concerning the proposed collection of information are encouraged. Your comments should address one or more of the following four points:

(1) Evaluate whether the proposed collection of information is necessary for the proper performance of the functions of the agency; including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Revision of a currently approved collection.

(2) Title of the form: Alien's change of address form: 33/BIA Board of Immigration Appeals and 33/IC Immigration Court.

(3) Agency form number, if any, and the applicable component of the Department of Justice sponsoring the collection: Form EOIR 33/BIA, EOIR 33/IC, Executive Office for Immigration Review, United States Department of Justice.

(4) Affected public who will be asked to respond, as well as a brief abstract: Primary: An alien whose immigration proceedings is statutorily required to report any change of address. Other: None. Abstract: The information on the change of address form is used by the Immigration Courts and the Board of Immigration Appeals to ascertain where to send the notice of the next administrative action or notice of any decisions which have been rendered in an alien's case.

(5) An estimate of the total number of respondents and the amount of time estimated for an average respondent to respond: 15,000 responses are estimated annually with an average of 15 minutes per response.

(6) An estimate of the total public burden (in hours) associated with the collection: 3,750 hours annually.

If additional information is required contact: Mrs. Brenda E. Dyer, Deputy Clearance Officer, United States Department of Justice, Information Management and Security Staff, Justice Management Division, Suite 1600, Patrick Henry Building, 601 D Street NW., Washington, DC 20530.

Dated: June 28, 2002.
Brenda E. Dyer,
Department Deputy Clearance Office, United States Department of Justice.

[FR Doc. 02-16988 Filed 7-5-02; 8:45 am]

BILLING CODE 4410-30-M